DEPARTMENT OF COMMERCE

National Oceanic and Atmospheric Administration

50 CFR Part 660

[Docket No. 210308-0049]

RIN 0648-BJ74

Magnuson-Stevens Act Provisions; Fisheries Off West Coast States; Pacific Coast Groundfish Fishery; 2021-2022 Biennial Specifications and Management Measures; Correction

AGENCY: National Marine Fisheries Service (NMFS), National Oceanic and Atmospheric Administration (NOAA), Commerce.

ACTION: Final rule; correcting amendment.

SUMMARY: This action contains corrections to the final rule for the 2021-2022 Biennial Harvest Specifications and Management Measures for groundfish harvested in the U.S. exclusive economic zone off the coasts of Washington, Oregon, and California published on December 11, 2020. This action corrects: the Rockfish Conservation Area (RCA) waypoints for the 100 fathom depth contour, the other flatfish gear restrictions in the RCA, language describing the boundary lines for the depth contours, and the boundaries of the non-groundfish RCA for California halibut, sea cucumber, and ridgeback prawns south of 34°27′ N. lat. These corrections are necessary so the regulations accurately implement the Pacific Fishery Management Council's intent and are consistent with what was anticipated by participants in the groundfish fishery.

DATES: This correction is effective March 16, 2021.

FOR FURTHER INFORMATION CONTACT: Karen Palmigiano at karen.palmigiano@noaa.gov or 206-526-4491.

SUPPLEMENTARY INFORMATION: NMFS published a final rule on December 11, 2020, (85 FR 79880), that implemented the 2021-2022 harvest specifications and management measures for groundfish harvested in the U.S. exclusive economic zone off the coasts of Washington, Oregon, and California. That final rule was effective January 1, 2021. After publication of the final rule, NMFS noted the need for four corrections.

Corrections

The final rule for the 2021-2022 groundfish harvest specifications and management measures (85 FR 79880; December 11, 2020) inadvertently deleted the final waypoint for the line approximating the 100-fathom depth contour coast-wide at the U.S. and Mexico border. This waypoint, known as point #322, at 32°34.22′ North latitude (N lat.), 117°21.20′ West longitude (W. long.) was part of the regulations in 2020 and the Pacific Fishery Management Council (Council) did not recommend to remove it through the 2021-2022 harvest specifications. This final rule will add point #322 back into the list of waypoints for the 100-fathom line. Without this point identified in the regulations, it is difficult for members of industry to use their plotters to identify the boundaries of the non-trawl RCA. Additionally, the waypoint must be reinstated into the regulations in order for law enforcement to correctly enforce the boundaries of the non-trawl RCA. This correcting amendment would revise the regulations to reinstate the missing waypoint.

In order to make the description of the depth contours off of California consistent with the description used for Oregon and Washington, the final rule noted in section “V. Changes From the Proposed Rule” that the language describing the boundary lines in § 660.360(3)(i)(A)(1) and (2) would be changed from . . . is prohibited seaward of the 30 fm (55m) depth contour . . . to . . . is prohibited seaward of the boundary line approximating the 30 fm (55m) depth contour . . . . However, the final rule inadvertently did not change the regulatory text to include the updated description. This correcting amendment would revise the language in § 660.360(3)(i)(A)(1) and (2) to include the correct description of the depth contours consistent with the intent of the 2021-2022 harvest specifications final rule and the Council's intent. This clarification is needed to provide consistency among sections in the regulations so that the description of the depth contours for recreational closed areas are consistent between the three states.

The final rule implemented the Council recommendation to remove the gear restrictions for the limited-entry fixed-gear (LEFG) and open-access (OA) fishery targeting stocks in the “Other Flatfish” complex south of 42° N lat. by removing the hook-and-line gear restriction language from the LEFG and OA trip limit tables. However, NMFS inadvertently did not remove the gear restriction from other sections of the regulatory text. Specifically, the requirement to use no more than 12 hooks, Number 2 or smaller, which measure no more than 11 mm (0.44 inches) point to shank and up to two 1-lb (0.45 kg) weights per line should have been removed in all places it appears in the regulatory text and replaced with hook and line gear only. This final rule would remove the gear restriction specifying the type and number of hooks from the regulations so that the regulations are consistent and follow the intent of the action. This correction is needed to reduce confusion and inconsistencies in the regulatory text as to what gears are allowed to be used inside the non-trawl RCA.

The final rule included a typographical error in the description of the boundary lines south of 34°27′ N lat. for the non-groundfish trawl RCA for California halibut, sea cucumber, and ridgeback prawns in Table 3 (South) to Subpart F. Instead of stating the fathom lines of the boundary, the boundaries are stated as 01/01/2021+A108:P133. This final rule will correct the boundary from the 100 fm line to the 150 fm line. This correction is needed to enforce the boundaries of this non-groundfish trawl RCA and also to reduce confusion about the boundaries among members of industry.

All of these corrections are consistent with the Council action for the 2021-2022 groundfish harvest specifications and the public expects the regulations to be written as in the correction. These are minor corrections to correctly implement the Council's intent in their final action taken in June 2020.

Classification

NMFS is issuing this rule pursuant to 305(d) of the Magnuson-Stevens Act. In a previous action taken pursuant to section 304(b), the Council designed the Pacific Coast Groundfish Fishery Management Plan (FMP) to authorize NMFS to take this action pursuant to MSA section 305(d). See 50 CFR 660. The NMFS Assistant Administrator has determined that this final rule is consistent with the FMP and other applicable law.

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors related to the December 11, 2020 final rule (85 FR 79880). Immediate correction of the errors is necessary to prevent confusion among participants in the fishery due to conflicting gear restrictions and lack of waypoints to define boundary lines that could result in issues with enforcement. To effectively correct the errors, the changes in this action must be effective upon publication as the fishery has already begun. Thus, there is not sufficient time for notice and comment. In addition, notice and comment is unnecessary because this notice makes only minor changes to correct inadvertent errors related to the December 11, 2020 final rule (85 FR 79880). These corrections will not affect the results of analyses conducted to support management decisions in the Pacific Coast groundfish fishery. These corrections are consistent with the Council's intent for regulations and the public expects the regulations to be written as in the correction. No change in operating practices in the fishery is required.

For the same reasons stated above, the AA has determined good cause exists to waive the 30-day delay in effectiveness pursuant to 5 U.S.C. 553(d). This notice makes only minor corrections to the final rule which was effective January 1, 2021. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

This final rule contains no information collection requirements under the Paperwork Reduction Act of 1995.

List of Subjects in 50 CFR Part 660

Fisheries, Fishing, and Indian fisheries.

Dated: March 10, 2021.
Samuel D. Rauch III,
Deputy Assistant Administrator for Regulatory Programs, National Marine Fisheries Service.

For the reasons set out in the preamble, 50 CFR part 660 is corrected by making the following correcting amendments:

PART 660—FISHERIES OFF WEST COAST STATES

1. The authority citation for 50 CFR part 660 continues to read as follows:

Authority: 16 U.S.C. 1801 et seq., 16 U.S.C. 773 et seq., and 16 U.S.C. 7001 et seq.

2. In § 660.73, add paragraph (a)(322) to read as follows:

§ 660.73 Latitude/longitude coordinates defining the 100 fm (183 m) through 150 fm (274 m) depth contours.

* * * * *

(a) * * *

(322) 32°34.22′ N lat., 117°21.20′ W long.

* * * * *

3. In § 660.230, revise paragraph (d) introductory text, add paragraph (d)(10)(i), and revise paragraphs (d)(11)(iv) and (d)(12) and (13) to read as follows:

§ 660.230 Fixed gear fishery—management measures.

* * * * *

(d) Groundfish conservation areas. GCAs are defined by coordinates expressed in degrees of latitude and longitude. The latitude and longitude coordinates of the GCA boundaries are specified at §§ 660.70 through 660.74. A vessel that is authorized by this paragraph to fish within a GCA (e.g., fishing for “other flatfish” with hook and line gear only), may not simultaneously have other gear on board the vessel that is unlawful to use for fishing within the GCA. The following GCAs apply to vessels participating in the limited entry fixed gear fishery.

* * * * *

(10) * * *

(i) Fishing for “other flatfish” is permitted within the CCAs with hook and line gear only; and provided a valid declaration report as required at § 660.13(d), subpart C, has been filed with NMFS OLE.

* * * * *

(11) * * *

(iv) It is lawful to fish within the nontrawl RCA with limited entry fixed gear using hook and line gear only when trip limits authorize such fishing, and provided a valid declaration report as required at § 660.13(d), subpart C, has been filed with NMFS OLE.

(12) Farallon Islands. Under California law, commercial fishing for all groundfish is prohibited between the shoreline and the 10 fm (18 m) depth contour around the Farallon Islands. An exception to this prohibition is that commercial fishing for “other flatfish” is allowed around the Farallon Islands using hook and line gear only. (See Table 2 (South) of this subpart.) For a definition of the Farallon Islands, see § 660.70, subpart C.

(13) Cordell Banks. Commercial fishing for groundfish is prohibited in waters of depths less than 100 fm (183 m) around Cordell Banks, as defined by specific latitude and longitude coordinates at § 660.70, subpart C. An exception to this prohibition is that commercial fishing for “other flatfish” is allowed around Cordell Banks using hook and line gear only.

* * * * *

4. Revise Table 2 (North) and Table 2 (South) to part 660, subpart E, to read as follows:

BILLING CODE 3510-22-P

BILLING CODE 3510-22-C

5. In § 660.330, revise paragraphs (d) introductory text, (d)(11)(i), (d)(12)(iv), and (d)(14) and (15) to read as follows:

§ 660.330 Open access fishery—management measures.

* * * * *

(d) Groundfish conservation areas (GCAs). GCAs, a type of closed area, are defined at § 660.11 and with latitude and longitude coordinates at §§ 660.70 through 660.74. A vessel that is authorized by this paragraph to fish within a GCA (e.g., fishing for “other flatfish” using hook and line gear only), may not simultaneously have other gear on board the vessel that is unlawful to use for fishing within the GCA. The following GCAs apply to vessels participating in the open access groundfish fishery.

* * * * *

(11) * * *

(i) Fishing for “other flatfish” is allowed within the CCAs with hook and line gear only; and provided a valid declaration report as required at § 660.13(d), has been filed with NMFS OLE.

* * * * *

(12) * * *

(iv) Fishing for “other flatfish” off California (between 42° N lat. south to the U.S./Mexico border) is allowed within the nontrawl RCA with hook and line gear only; and provided a valid declaration report as required at § 660.13(d), has been filed with NMFS OLE.

* * * * *

(14) Farallon Islands. Under California law, commercial fishing for all groundfish is prohibited between the shoreline and the 10 fm (18 m) depth contour around the Farallon Islands. An exception to this prohibition is that commercial fishing for “other flatfish” is allowed around the Farallon Islands using hook and line gear only. (See Table 2 (South) of this subpart.) For a definition of the Farallon Islands, see § 660.70, subpart C.

(15) Cordell Banks. Commercial fishing for groundfish is prohibited in waters of depths less than 100-fm (183-m) around Cordell Banks, as defined by specific latitude and longitude coordinates at § 660.70, subpart C. An exception to this prohibition is that commercial fishing for “other flatfish” is allowed around Cordell Banks using hook and line gear only.

* * * * *

6. Revise Table 3 (North) and Table 3 (South) to part 660, subpart F, to read as follows:

BILLING CODE 3510-22-P

7. In § 660.360, revise paragraphs (c)(3)(i)(A)(1) and (2) to read as follows:

§ 660.360 Recreational fishery—management measures.

* * * * *

(c) * * *

(3) * * *

(i) * * *

(A) * * *

(1) Between 42° N lat. (California/Oregon border) and 40°10′ N lat. (Northern Management Area), recreational fishing for all groundfish (except petrale sole, starry flounder, and “Other Flatfish” as specified in paragraph (c)(3)(iv) of this section) is closed from January 1 through April 30; is prohibited seaward of the boundary line approximating the 30 fm (55 m) depth contour along the mainland coast and along islands and offshore seamounts from May 1 through October 31 (shoreward of 30 fm is open); and is open at all depths from November 1 through December 31.

(2) Between 40°10′ N lat. and 38°57.50′ N lat. (Mendocino Management Area), recreational fishing for all groundfish (except petrale sole, starry flounder, and “Other Flatfish” as specified in paragraph (c)(3)(iv) of this section) is closed from January 1 through April 30; prohibited seaward of the boundary line approximating the 30 fm (55 m) depth contour along the mainland coast and along islands and offshore seamounts from May 1 through October 31 (shoreward of 30 fm is open), and is open at all depths from November 1 through December 31.

* * * * *

[FR Doc. 2021-05359 Filed 3-15-21; 8:45 am]

BILLING CODE 3510-22-C